DEPARTMENT OF COMMERCE

National Oceanic and Atmospheric Administration

RIN 0648-XF462

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Whiting Committee and Advisory Panel that was scheduled for Wednesday, June 14, 2017, at 9:30 a.m.

FOR FURTHER INFORMATION CONTACT: Thomas A. Nies, Executive Director, New England Fishery Management Council; telephone: (978) 465-0492.

SUPPLEMENTARY INFORMATION: The notice published in the Federal Register on May 31, 2017 (82 FR 24944). The meeting will be rescheduled at a later date and announced in the Federal Register.

Dated: May 31, 2017.
Jeffrey N. Lonergan,
Acting Deputy Director, Office of Sustainable Fisheries, National Marine Fisheries Service.

[FR Doc. 2017-11558 Filed 6-2-17; 8:45 am]

BILLING CODE 3510-22-P